FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Seahawk Logitech, Inc., 175 Armstrong Road, Des Plaines, IL 60018, Officer: Kyung H. Kim, President (Qualifying Individual)

National Shipping Lines, Inc., 7424 Villareal Drive, Castro Valley, CA 94552, Officers: Jerry He, Chief Operation Officer (Qualifying Individual), Laurence Tam, Director

Fasttrack Line, Inc., 201 Sevilla Avenue, Suite 306, Coral Gables, FL 33134, Officer: Ernesto Del Riego, President (Qualifying Individual)

Grace Cargo, Inc., 648 Marsat Court, Suite B, Chula Vista, CA 91911, Officers: Eulogio M. Demonteverde, Jr., V. P. Operations (Qualifying Individual), Cyrus T. Santamaria, President

Non-Vessel Operating Common Carrier and Ocean Freight Forwarder Transportation Intermediary Applicant

Klasman-Varnak USA, Inc., 45 Tamarack Circle, Skillman, NJ 08558, Officers: Nejat Denizli, Vice President (Qualifying Individual), Yilmaz Nalcakar, President

Ocean Freight Forwarder—Ocean Transportation Intermediary Applicant

Worldwide Forwarding, Inc., 4605 Marion Street, North Little Rock, AR 72118, Officers: Nancy Hester, President (Qualifying Individual), Carolyn Landrum, Secretary

Dated: June 8, 2001.
Bryant L. VanBrakle,
Secretary.

[FR Doc. 01-14919 Filed 6-12-01; 8:45 am]

BILLING CODE 6730-01-P